DEPARTMENT OF TRANSPORTATION

Federal Aviation Administration

Notice of Release From Federal Grant Assurance Obligations at Morgantown Municipal Airport, Morgantown, WV

AGENCY: Federal Aviation Administration (FAA), DOT.

ACTION: Notice of request to release and dispose of airport land.

SUMMARY: The FAA proposes to rule and invites public comment on the application for a release and disposal of approximately 0.31 acres of federally obligated airport property at Morgantown Municipal Airport, Morgantown, WV, from Grant Assurance obligations. This acreage is composed of two parcels of land that was acquired by the City of Morgantown on October 30, 1972 by conveyance from Joseph and Phyllis Marshall through FAA Project #8-54-0015-02. The release will allow the West Virginia Division of Highways to widen West Run Road (County Route 67/1). The land requested for release is not required for aviation use and development and will not interfere with the airport or its operation.

DATES: Comments must be received on or before February 20, 2023.

FOR FURTHER INFORMATION CONTACT: Comments on this application may be submitted to Michael Adkins, Federal Aviation Administration, Beckley Airports Field Office via phone at (304) 252-5931 or at the email address michael.s.adkins@faa.gov. Comments on this application may also be mailed or delivered to the FAA at the following address: Matthew Di Giulian, Manager, Federal Aviation Administration, Beckley Airports Field Office, Federal Register Comment, 176 Airport Circle Room 101, Beaver, West Virginia 25813.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by grant agreements. The following is a brief overview of the request.The City of Morganton requested a release from grant assurance obligations to allow for the release and disposal of approximately 0.31 acres of airport property at Morgantown Municipal Airport. The airport will receive fair market value for the property. The proposed use of the property will not interfere with the airport or its operation; and will thereby, serve the interests of civil aviation.

Issued in Beaver, West Virginia, on January 10, 2023.
Matthew Di Giulian,
Manager, Beckley Airports Field Office.

[FR Doc. 2023-00581 Filed 1-12-23; 8:45 am]

BILLING CODE P